DEPARTMENT OF HOMELAND SECURITY

Office of the Secretary

[Docket No. DHS-2013-0076]

Privacy Act of 1974; Department of Homeland Security U.S. Citizenship and Immigration Services—008 Refugee Access Verification Unit System of Records

AGENCY: Department of Homeland Security, Privacy Office.

ACTION: Notice of Privacy Act System of Records Update.

SUMMARY: In accordance with the Privacy Act of 1974, the Department of Homeland Security proposes to update and reissue a current Department of Homeland Security system of records titled, “Department of Homeland Security/United States Citizenship and Immigration Services—008 Refugee Access Verification Unit System of Records.” This system of records allows the Department of Homeland Security/U.S. Citizenship and Immigration Services to collect information to verify claimed relationships between anchor relatives in the United States and their overseas family members seeking access to the U.S. Refugee Admissions Program under the Priority 3 Family Reunification Program. Eligible anchor relatives who were admitted to the United States as refugees or granted asylum in the United states may file an Affidavit of Relationship for qualifying overseas family members (spouses, unmarried children under age 21, and/or parents) to seek access to the U.S. Refugee Admission Program for their family members under Priority 3. USCIS is updating this system of records to include: (1) An updated system location; (2) updated categories of records; (3) updated routine uses; (4) a proposed retention schedule; (5) updated data elements used to retrieve records; and (6) updated sources of records. Additionally, this notice includes non-substantive changes to simplify the formatting and text of the previously published notice. This updated system will continue to be included in the Department of Homeland Security's inventory of record systems.

DATES: Submit comments on or before December 26, 2013. This updated system will be effective December 26, 2013.

ADDRESSES: You may submit comments, identified by docket number DHS-2013-0076 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact Karen L. Neuman, (202) 343-1717, Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS) proposes to update and reissue a current DHS system of records titled, “DHS/USCIS—008 Refugee Access Verification Unit System of Records” (last published December 19, 2008, 73 FR 77795). This system of records notice (SORN) includes an updated system location, clarified categories of records, an updated retention schedule, and additional sources of records.

USCIS and the Department of State (DOS) Bureau of Population, Refugees, and Migration (PRM) work cooperatively to administer the overseas component of the U.S. Refugee Admissions Program (USRAP). The mission of the USRAP is to resettle eligible refugees in the United States. DOS PRM has overall management responsibility for the USRAP and leads in proposing admissions ceilings and defining processing priorities, under which individuals may obtain access to the USRAP. The USCIS Refugee, Asylum, and International Operations Directorate (RAIO), Refugee Affairs Division (RAD) is responsible for interviewing refugee applicants and adjudicating applications for refugee status.

Two separate IT systems maintain the information necessary to process applications for refugee resettlement under the Priority 3 Family Reunification Program (P-3): (1) The DOS Worldwide Refugee Admissions Processing System (WRAPS) and (2) The Refugee Access Verification Unit (RAVU) database. WRAPS maintains information related to all individuals referred to the USRAP for resettlement. USCIS has read-only access to WRAPS. RAVU officers conduct preliminary paper reviews of all Affidavits of Relationship (AOR) (Form DS-7656) filed for P-3 cases prior to interview by a USCIS officer overseas.

All AORs are subject to RAVU officer review. Only those family members on AORs cleared by USCIS proceed to a refugee interview with a USCIS officer overseas. To support this function, USCIS developed the RAVU database using the existing SharePoint Enterprise Collaboration Network (ECN) to track and manage the review of AORs, as well as generate reports, forms, and letters. ECN is a virtual work environment that allows users to collaborate, share information, and enhance productivity. RAVU allows users to enter data into a site through manual typing and attaching documents in a virtual space. Data from AORs and corresponding documents from the A-file are uploaded from individual computers to a secured centralized site in ECN.

USCIS is republishing this SORN to provide public notice of the following. The location of the system has been updated to note that RAVU records are only electronically maintained. The categories of records have been updated to clarify that DNA results and other information may be collected on anchor relatives, qualifying family members, derivatives, and Type C add-on relatives. DHS has updated Routine Use H to clarify that records will be shared with DOS and “their contractors, agents, grantees, experts, consultants, or others performing or working on a contract, service, grant, cooperative agreement, or other assignment for DOS, when necessary to accomplish an agency function related to this system of records.” The retention and disposal section has been updated to reflect a proposed retention schedule that would reduce the retention of master file records from 20 years to 15 years. Retrievability has been updated to note that records may be retrieved by the anchor relative's A-Number or the Pre-Case ID assigned to the AOR. Sources of records have been updated to include A-files and other DHS systems. Additionally, this notice includes non-substantive changes to simplify the formatting and text of the previously published notice.

Information contained in DHS/USCIS—008 Refugee Access Verification Unit is afforded the confidentiality protections contained in 8 CFR 208.6, which strictly limits the disclosure of information to third parties. 8 CFR 208.6 specifically covers the confidentiality of asylum applicants who are in the United States. By DHS policy, the confidentiality provisions for asylum seekers and asylees have been extended to refugee applicants. Information may not be disclosed without the written consent of the applicant, except as permitted by 8 CFR 208.6 or at the discretion of the Secretary of Homeland Security or the Attorney General of the United States. This updated system will continue to be included in DHS' inventory of record systems.

II. Privacy Act

The Privacy Act embodies fair information practice principles in a statutory framework governing the means by which federal government agencies collect, maintain, use, and disseminate individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/USCIS—008 Refugee Access Verification Unit System of Records.

In accordance with 5 U.S.C. 552a(r), DHS has provided a report of this system of records to the Office of Management and Budget and to Congress.

System of Records

Department of Homeland Security (DHS)/U.S. Citizenship and Immigration Services (USCIS)—008.

System name:

DHS/USCIS—008 Refugee Access Verification Unit.

Security classification:

Unclassified, sensitive.

System location:

USCIS electronically maintains records on the Refugee Access Verification Unit (RAVU) SharePoint Enterprise Collaboration Network (ECN) site, which is accessible at the Refugee Affairs Division Headquarters in Washington, DC and field locations overseas.

Categories of individuals covered by the system:

Categories of individuals covered by this system include: (1) Anchor relatives who have filed an Affidavit of Relationship (AOR) for qualified family members overseas to gain access to the U.S. Refugee Admissions Program (USRAP) under Priority 3; (2) qualifying family members (parents, spouses, and unmarried children under age 21) of the anchor relative who are listed in Section II of the AOR; (3) derivatives (spouse and unmarried children under age 21) of the qualifying family member listed in Section II of the AOR; (4) individuals who qualify as Type C add-ons and are listed in Section II of the AOR; and (5) AOR preparers who work for domestic resettlement agencies and complete the AOR based on information provided by the anchor relative.

Categories of records in the system:

Information about the anchor relative gathered from documents in the A-file may include:

• Full Name;

• Physical and Mailing Address;

• Telephone and Fax Numbers;

• Date of Birth;

• Gender;

• A-Number;

• Social Security number;

• Immigration Status;

• Date of Arrival in the U.S.;

• Date Asylum/Refugee status was granted;

• Mother's Maiden Name;

• Documents establishing identity and claimed relationship (i.e., marriage record, civil or criminal history, medical records, education records);

• Biometric identifiers (i.e., weight, color of eyes and hair, and facial marks);

• Photographic Facial Image;

• Civil or criminal history information;

• Reports of investigations or derogatory information obtained from DHS and other federal systems;

• Refugee and asylum interview notes and assessments; and

• Other unique identifiers, including information found in the A-File used to facilitate a determination.

Information about the anchor relative collected in the AOR and through the RAVU review may include:

• Full Name;

• Date of Birth;

• Gender;

• Marital status

• City/Country of Birth;

• A-Number

• Immigration Status;

• Date of Arrival in the U.S.;

• Date Asylum/Refugee status was granted;

• Names, dates of birth, and locations of immediate relatives; and

• DNA Results—confirmed or not confirmed.

Information about overseas family members may include:

• Full Name;

• Gender;

• Date of Birth;

• City/Country of Birth;

• Nationality;

• Marital Status;

• A-Number (if applicable);

• Relationship to Anchor Relative;

• DNA Results—confirmed or not confirmed;

• Photographic facial image;

• Relationship to qualifying family member;

• Civil or criminal history information (if available); and

• Reports of investigations or derogatory information obtained from DHS or other federal systems (if available).

Information about preparer may include:

• Preparer's name;

• Domestic resettlement agency's name.

Information about the case determination may include:

• RAVU Checklists

• Decision Letters

• Summary of Findings, including inconsistencies found between claimed relationships in the AOR and available USCIS records

• Pre-Case ID Numbers

Authority for maintenance of the system:

Authority for maintaining this system is contained in Sections 1157 and 1522(b) of the INA, as amended (8 U.S.C. 1157, 1522(b)).

Purpose(s):

The purpose of this system is to track and manage the review of AORs submitted by anchor relatives in the United States on behalf of certain qualifying family members overseas who are seeking consideration for refugee resettlement under the Priority Three Family Reunification Program.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows: Note: Even when a valid routine use permits disclosure of information from this system of records to a third party, in some cases such disclosure may not be permissible because of confidentiality laws and policies that limit the sharing of information regarding individuals applying for certain immigration benefits. Information in this system of records contains information relating to persons who have pending or approved applications for asylum or refugee status and should not be disclosed pursuant to a routine use unless disclosure is otherwise permissible under the confidentiality statutes, regulations, or policies applicable to that information. These confidentiality provisions do not prevent DHS from disclosing information to the U.S. Department of Justice (DOJ) and U.S. Attorneys' Offices as part of an ongoing criminal or civil investigation.

A. To the Department of Justice (DOJ), including U.S. Attorney Offices, or other federal agency conducting litigation or in proceedings before any court, adjudicative or administrative body, when it is relevant or necessary to the litigation and one of the following is a party to the litigation or has an interest in such litigation:

1. DHS or any component thereof;

2. Any employee or former employee of DHS in his/her official capacity;

3. Any employee or former employee of DHS in his/her individual capacity where DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS' efforts to respond to the suspected or confirmed compromise and prevent, minimize, or remedy such harm as limited by 8 CFR 208.6.

F. To contractors and their agents, grantees, experts, consultants, and others performing or working on a contract, service, grant, cooperative agreement, or other assignment for DHS, when necessary to accomplish an agency function related to this system of records. Individuals provided information under this routine use are subject to the same Privacy Act requirements and limitations under 8 CFR 208.6 on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To DOS, their contractors, agents, grantees, experts, consultants, or others performing or working on a contract, service, grant, cooperative agreement, or other assignment for DOS, when necessary to accomplish an agency function related to this system of records.

I. To an attorney or representative who is acting on behalf of an individual covered by this system of records (as defined in 8 CFR 1.1(j)) in conjunction with any proceeding before DHS/USCIS or the Executive Office for Immigration Review.

J. To a former employee of the Department for purposes of responding to an official inquiry by a Federal, State, or local government entity or professional licensing authority, in accordance with applicable Department regulations; or facilitating communications with a former employee that may be necessary for personnel-related or other official purposes where the Department requires information and/or consultation assistance from the former employee regarding a matter within that person's former area of responsibility.

K. To Federal and foreign government intelligence or counterterrorism agencies or components where DHS becomes aware of an indication of a threat or potential threat to national or international security, or where such use is to assist in anti-terrorism efforts and disclosure is appropriate to the proper performance of the official duties of the person making the disclosure.

Disclosure to consumer reporting agencies:

None.

Policies and practices for storing, retrieving, accessing, retaining, and disposing of records in the system:

Storage:

Records in this system are stored electronically in secure facilities in a locked drawer behind a locked door. The records may be stored on CD, DVD, or other digital media.

Retrievability:

Records may be retrieved by the anchor relative's A-Number or the Pre-Case ID assigned to the AOR.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

NARA approved the RAVU Records [N1-563-04-05] Retention Schedule. USCIS is working with NARA to supersede/revise the RAVU Retention Schedule to reflect a 15-year retention of the Master File instead of the current 20 years.

System Manager and address:

Chief, Refugee Affairs Division, Refugee, Asylum, and International Operations Directorate, 111 Massachusetts Avenue NW., Washington, DC 20529.

Notification procedure:

Individuals seeking notification of and access to any record contained in this system of records, or seeking to contest its content, may submit a request in writing to the National Records Center (NRC) FOIA/PA Office, P.O. Box 648010, Lee's Summit, MO, 64064-8010. The NRC's contact information can be found at http://www.dhs.gov/foia under “Contacts.” If an individual believes more than one component maintains Privacy Act records concerning him or her, the individual may submit the request to the Chief Privacy Officer and Chief Freedom of Information Act Officer, Department of Homeland Security, 245 Murray Lane SW., Building 410, STOP-0655, Washington, DC 20528.

When seeking records about yourself from this system of records or any other Departmental system of records, your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records; and

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Information contained in this system of records is obtained from the individual who is the subject of these records. Other information sources include family members, petitions, A-File, information collected from federal databases for security screening checks, Resettlement Support Centers, the Refugee Processing Center, resettlement agencies, international organizations, and local sources at overseas sites.

Exemptions claimed for the system:

None.

Dated: November 15, 2013.
Karen L. Neuman,
Chief Privacy Officer, Department of Homeland Security.

[FR Doc. 2013-28247 Filed 11-22-13; 8:45 am]

BILLING CODE 9111-97-P